DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 4, 2020 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Arapahoe County, Colorado and Incorporated Areas
Docket No.: FEMA-B-1709
City of Aurora | Public Works Department, 15151 East Alameda Parkway, Suite 3200, Aurora, CO 80012.
City of Centennial | Southeast Metro Stormwater Authority, 7437 South Fairplay Street, Centennial, CO 80112.
City of Glendale | Glendale Municipal Offices, 950 South Birch Street, Glendale, CO 80246.
City of Littleton | Public Works Department, 2255 West Berry Avenue, Littleton, CO 80120.
Unincorporated Areas of Arapahoe County | Arapahoe County Department of Public Works and Development, 6924 South Lima Street, Centennial, CO 80112.
City and County of Denver, Colorado
Docket No.: FEMA-B-1709
City and County of Denver | Department of Transportation and Infrastructure, 201 West Colfax Avenue, Department 608, Denver, CO 80202.
Douglas County, Colorado and Incorporated Areas
Docket No.: FEMA-B-1709
City of Lone Tree | Public Works Department, 9220 Kimmer Drive, Suite 100, Lone Tree, CO 80124.
Town of Parker | Town Hall, 20120 East Mainstreet, Parker, CO 80138.
Unincorporated Areas of Douglas County | Douglas County Department of Public Works Engineering, 100 3rd Street, Castle Rock, CO 80104.
Hamilton County, Florida and Incorporated Areas
Docket No.: FEMA-B-1905
Unincorporated Areas of Hamilton County | Hamilton County Building Department, 204 Northeast 1st Street, Jasper, FL 32052.
Madison County, Florida and Incorporated Areas
Docket No.: FEMA-B-1905
City of Madison | City Hall, 321 Southwest Rutledge Street, Madison, FL 32340.
Town of Lee | Town Hall, 286 Northeast County Road 255, Lee, FL 32059.
Unincorporated Areas of Madison County | Madison County Courthouse Annex, 229 Southwest Pinckney Street, Madison, FL 32340.

[FR Doc. 2020-08456 Filed 4-21-20; 8:45 am]

BILLING CODE 9110-12-P